INTERNATIONAL TRADE COMMISSION

[Investigation No. 1205-14]

Recommended Modifications in the Harmonized Tariff Schedule

AGENCY: United States International Trade Commission.

ACTION: Notice of investigation.

SUMMARY: The U.S. International Trade Commission (Commission) has instituted investigation No. 1205-14, Recommended Modifications in the Harmonized Tariff Schedule, pursuant to section 1205 of the Omnibus Trade and Competitiveness Act of 1988, in order to recommend to the President certain modifications to the Harmonized Tariff Schedule of the United States (HTS) recommended by the World Customs Organization (WCO).

DATES:

January 2026: Posting of the WCO's Recommendation, on the Commission's website.

February 2026: Posting of the Commission's proposed recommendations on the Commission's website.

September 2026: Transmittal of the Commission's report to the President.

Note: These dates are subject to change.

ADDRESSES: All Commission offices, including the Commission's hearing rooms, are located in the U.S. International Trade Commission Building, 500 E Street SW, Washington, DC. All written submissions should be addressed to the Secretary, U.S. International Trade Commission, 500 E Street SW, Washington, DC 20436. The public record for this investigation may be viewed on the Commission's electronic docket (EDIS) at https://edis.usitc.gov.

FOR FURTHER INFORMATION CONTACT: Daniel P. Shepherdson, Attorney-Advisor, Office of Tariff Affairs and Trade Agreements ((202) 205-2598, or Daniel.Shepherdson@usitc.gov) or Edward Petronzio, Nomenclature Analyst, Office of Tariff Affairs and Trade Agreements ((202) 205-3033, or Edward.Petronzio@usitc.gov). The media should contact Jennifer Andberg, Office of External Relations ((202) 205-3404, or Jennifer.Andberg@usitc.gov). Hearing-impaired individuals may obtain information on this matter by contacting the Commission's TDD terminal at 202-205-1810. General information about the Commission is available by accessing the Commission website at www.usitc.gov. Persons with mobility impairments who will need special assistance in gaining access to the Commission should contact the Office of the Secretary at (202) 205-2000.

SUPPLEMENTARY INFORMATION: Background: Section 1205(a) of the Omnibus Trade and Competitiveness Act of 1988 (the 1988 Act) (19 U.S.C. 3005) requires that the Commission keep the Harmonized Tariff Schedule of the United States (Harmonized Tariff Schedule or HTS) under continuous review and periodically recommend to the President such modifications in the HTS as the Commission considers necessary or appropriate to conform the HTS with amendments made to the International Convention on the Harmonized Commodity Description and Coding System (Convention), which contains the Harmonized System nomenclature in the Annex to the Convention. The World Customs Organization (WCO) administers and maintains the Harmonized System and has completed six systematic reviews of the Harmonized System nomenclature since 1988. The reviews are conducted to ensure that the Harmonized System is kept up to date in light of changes in technology or patterns of international trade.

The Harmonized System nomenclature provides uniform product architecture for the customs tariffs and statistical nomenclatures of all major trading countries of the world, including the United States. The Harmonized System establishes the general arrangement or structure of product categories, set forth in chapters, 4-digit headings, and 6-digit subheadings. It also includes the general rules of interpretation, and section and chapter legal notes that define the scope of sections, chapters, 4-digit headings, and 6-digit subheadings. The HTS is based on the Harmonized System nomenclature. The HTS includes additional national subdivisions (8-digit subheadings and 10-digit statistical annotations), as well as additional U.S. chapter notes, and other national provisions that facilitate the administration of U.S. customs, tariff, and statistical programs.

In January 2026, the WCO is expected to publish recommended amendments to the Harmonized System nomenclature that the WCO proposes will enter into force on January 1, 2028. The amendments are the seventh in a series of such amendments and are part of the WCO's ongoing program of periodically reviewing and updating the Harmonized System nomenclature. The Commission will post a copy of the WCO recommended amendments on its website at www.usitc.gov, once they become available, likely in January 2026. A copy of the current HTS, which incorporates the Harmonized System nomenclature in its overall structure, is available on the Commission's website at https://hts.usitc.gov.

Proposed recommendations; opportunity for submission of views by Federal agencies and the public: In preparing its recommended modifications to the HTS to the President, the Commission will post the proposed recommendations on its website, likely in February 2026. The Commission will publish a notice in the Federal Register at that time providing notice of their availability and notice of procedures for filing written views, including the date by which such written views must be filed. To assist the public in understanding the proposed changes and in developing comments, the Commission will include, with the proposed recommendations, a non-authoritative cross-reference table linking the proposed headings, subheadings, and statistical annotations to the corresponding current headings, subheadings, and statistical annotations. Persons using the cross-reference table should be aware that the cross-references shown are subject to change during the course of the investigation.

Recommendations to the President: The Commission will submit its recommended modifications to the HTS to the President in the form of a report that will include a summary of the information on which the recommendations were based, together with a statement of the probable economic effect of each recommended change on any industry in the United States. The report also will include a copy of all written views submitted by interested Federal agencies and a copy or summary, prepared by the Commission, of the views of all other interested parties. The Commission expects to submit that report in September 2026.

By order of the Commission.
Issued: August 12, 2025.
Lisa Barton,
Secretary to the Commission.

[FR Doc. 2025-15511 Filed 8-14-25; 8:45 am]

BILLING CODE 7020-02-P